SMALL BUSINESS ADMINISTRATION

13 CFR Parts 121, 124, 125, 126 and 127

[Docket No. SBA-2014-0006]

RIN 3245-AG58

Small Business Government Contracting and National Defense Authorization Act of 2013 Amendments

AGENCY: U.S. Small Business Administration.

ACTION: Proposed rule; reopening of comment period.

SUMMARY: The U.S. Small Business Administration (SBA) is reopening the comment period for the proposed rule published in the Federal Register on December 29, 2014 at 79 FR 77955. In that rule SBA proposed to implement provisions of the National Defense Authorization Act of 2013, which pertain to performance requirements applicable to small business and socioeconomic program set aside contracts and small business subcontracting. SBA also proposed to make changes to its regulations concerning the nonmanufacturer rule and affiliation rules. Further, SBA proposed to allow a joint venture to qualify as small for any government procurement as long as each partner to the joint venture qualifies individually as small under the size standard corresponding to the NAICS code assigned in the solicitation. Finally, SBA requested comments on the timeline and procedures for North American Industry Classification System code appeals. The comment period closed on February 27, 2015.

SBA is reopening the comment period in response to the significant level of interest generated by the proposed rule and due to the request of multiple stakeholders. Given the scope of the proposed rule and the nature of the issues raised by the comments received to date, SBA believes that affected businesses need more time to review the proposal and fully prepare their comments.

DATES: The comment period for the proposed rule published on December 29, 2014 (79 FR 77955) is extended through April 6, 2015.

ADDRESSES: You may submit comments, identified by Docket Number: SBA-2014-0006, by any of the following methods:

• Federal eRulemaking Portal: http://www.regulations.gov. Follow the instructions for submitting comments.

• For mail, paper, disk, or CD/ROM submissions: Brenda Fernandez, U.S. Small Business Administration, Office of Policy, Planning and Liaison, 409 Third Street SW., 8th Floor, Washington, DC 20416.

• Hand Delivery/Courier: Brenda Fernandez, U.S. Small Business Administration, Office of Policy, Planning and Liaison, 409 Third Street SW., 8th Floor, Washington, DC 20416.

SBA will post all comments on www.regulations.gov. If you wish to submit confidential business information (CBI) as defined in the User Notice at www.regulations.gov, please submit the information to Brenda Fernandez, U.S. Small Business Administration, Office of Policy, Planning and Liaison, 409 Third Street SW., 8th Floor, Washington, DC 20416, or send an email to brenda.fernandez@sba.gov. Highlight the information that you consider to be CBI and explain why you believe SBA should hold this information as confidential. SBA will review the information and make the final determination on whether it will publish the information.

FOR FURTHER INFORMATION CONTACT: Brenda Fernandez, Office of Policy, Planning and Liaison, 409 Third Street SW., Washington, DC 20416; (202) 207-7337; brenda.fernandez@sba.gov.

Dated: March 3, 2015.
Kenneth Dodds,
Director, Office of Policy, Planning & Liaison, Office of Government Contracting & Business Development.

[FR Doc. 2015-05316 Filed 3-6-15; 8:45 am]

BILLING CODE 8025-01-P